OFFICE OF THE FEDERAL REGISTER

5 CFR Chapter XL

Interstate Commerce Commission Regulations; Correction Reinstatement of Chapter

Editorial Note: On December 26, 2024, at 89 FR 104,859, the Director of the Federal Register removed 5 CFR Chapter XL pursuant to section 101 of Public Law 104-88, which abolished the Interstate Commerce Commission on December 29, 1995, effective January 1, 1996. However, Public Law 104-88 also includes a savings provision in section 204, stating that all regulations in effect under the Interstate Commerce Commission continue in effect under the Surface Transportation Board. Therefore, the regulations at 5 CFR Chapter XL continue in effect pursuant to Public Law 104-88, section 204, and the removal was in error.

The Director of the Federal Register, pursuant to his authority to maintain an orderly system of codification under 44 U.S.C. 1510 and 1 CFR 8.2, hereby reinstates Chapter XL of Title 5, consisting of Parts 5000 to 5099, of the Code of Federal Regulations.

Accordingly, Chapter XL of Title 5 of the Code of Federal Regulations is hereby reinstated as of December 26, 2024.

[FR Doc. 2025-02666 Filed 2-12-25; 8:45 am]

BILLING CODE 0099-10-D